DEPARTMENT OF JUSTICE

Office of Justice Programs

[OJP (OJJDP) Docket No. 1724]

Meeting of the Federal Advisory Committee on Juvenile Justice

AGENCY: Office of Juvenile Justice and Delinquency Prevention, Justice.

ACTION: Notice of annual in-person meeting.

SUMMARY: The Office of Juvenile Justice and Delinquency Prevention (OJJDP) has scheduled an Annual Meeting of the Federal Advisory Committee on Juvenile Justice (FACJJ).

DATES: The Annual Meeting will take place on Thursday, September 29, 2016, at 8:30 a.m.-5 p.m. ET and Friday, September 30, 2016, at 8:30 a.m.-12:30 p.m. ET.

ADDRESSES: The meeting will take place in the third floor main conference room at the U.S. Department of Justice, Office of Justice Programs, 810 7th St. NW., Washington, DC 20531.

FOR FURTHER INFORMATION CONTACT: Visit the Web site www.facjj.org or contact Jeff Slowikowski, Designated Federal Official, OJJDP, Jeff.Slowikowski@usdoj.gov or (202) 616-3646. [This is not a toll-free number.]

SUPPLEMENTARY INFORMATION: FACJJ, established pursuant to Section 3(2)A of the Federal Advisory Committee Act (5 U.S.C. App.2), will meet to carry out its advisory functions under Section 223(f)(2)(C-E) of the Juvenile Justice and Delinquency Prevention Act of 2002. The FACJJ is composed of representatives from the states and territories. FACJJ member duties include: Reviewing Federal policies regarding juvenile justice and delinquency prevention; advising the OJJDP Administrator with respect to particular functions and aspects of OJJDP; and advising the President and Congress with regard to State perspectives on the operation of OJJDP and Federal legislation pertaining to juvenile justice and delinquency prevention. More information on the FACJJ may be found at www.facjj.org.

Meeting Agenda: The proposed agenda includes: (a) Opening Introductions, and Meeting Logistics; (b) Remarks of Robert L. Listenbee, Administrator, OJJDP; (c) FACJJ Subcommittee Reports (Legislation; Expungement/Sealing of Juvenile Court Records; Research/Publications; LGBT); (d) FACJJ Administrative Business; (e) New Member Orientation; (f) Ethics Training (g) Discussion of By-Laws; and (h) Summary, Next Steps, and Meeting Adjournment.

Registration: For security purposes, members of the public who wish to attend the meeting in-person must pre-register online at www.facjj.org no later than Friday, September 23, 2016. Should problems arise with web registration, contact Melissa Kanaya, Senior Program Manager/Federal Contractor, at 202-532-0121, or send a request to register to Ms. Kanaya at Melissa.Kanaya@usdoj.gov. Please include name, title, organization or other affiliation, full address and phone, fax, and email information and send to her attention. Note that these are not toll-free telephone numbers. Additional identification documents may be required. Meeting space is limited. Note: Photo identification will be required for admission to the meeting.

To view the webcast meeting, the public must pre-register online at www.facjj.org, no later than Friday, September 23, 2016. Upon registration, information will be sent to you at the email address you provide to enable you to connect to the webcast.

Written Comments: Interested parties may submit written comments by email message in advance to Jeff Slowikowski, Designated Federal Official, at Jeff.Slowikowski@usdoj.gov, no later than Friday September 23, 2016. In the alternative, interested parties may fax comments to 202-307-2819 and contact Melissa Kanaya at 202-532-0121 to ensure that they are received. [These are not toll-free numbers.]

Robert L. Listenbee,
Administrator, Office of Juvenile Justice and Delinquency Prevention.

[FR Doc. 2016-20255 Filed 8-23-16; 8:45 am]

BILLING CODE 4410-18-P